DEPARTMENT OF HEALTH AND HUMAN SERVICES

National Institutes of Health

National Institute of Diabetes and Digestive and Kidney Diseases; Amended Notice of Meeting

Notice is hereby given of a change in the meeting of the Diabetes, Endocrinology and Metabolic Diseases B Subcommittee, October 24, 2018, 05:30 p.m. to October 26, 2018, 04:00 p.m., Residence Inn Capital View, 2850 South Potomac Avenue, Arlington, VA, 22202 which was published in the Federal Register on September 12, 2018, 64 FR 46178.

The meeting is being amended to reflect location change. The new meeting location is the Renaissance Washington DC Downtown, 999 9th Street NW, Washington, DC 20001. The meeting is closed to the public.

Dated: October 17, 2018.
David D. Clary,
Program Analyst, Office of Federal Advisory Committee Policy.

[FR Doc. 2018-23033 Filed 10-22-18; 8:45 am]

BILLING CODE 4140-01-P